DEPARTMENT OF HOUSING AND URBAN DEVELOPMENT

[Docket No. FR-4837-D-16]

Redelegation of Authority With Respect to the Section 184 Indian Housing Loan Guarantee Program

AGENCY: Office of the Assistant Secretary for Public and Indian Housing, HUD.

ACTION: Notice of redelegation of authority.

SUMMARY: In this notice, the Assistant Secretary for Public and Indian Housing redelegates the authority to administer the Section 184 Indian Housing Loan Guarantee Program to the Deputy Assistant Secretary for Native American Programs, and the Director of the Office of Loan Guarantee in the Office of Native American Programs, Office of Public and Indian Housing.

EFFECTIVE DATE: July 18, 2003.

FOR FURTHER INFORMATION CONTACT: Edward Fagan, Office of Native American Programs, Office of Public and Indian Housing, Department of Housing and Urban Development, 451 Seventh Street, SW., Room 4126, Washington, DC 20410-5000; telephone (202) 401-7914 (this is not a toll-free number). For those needing assistance, this number may be accessed through TTY by calling the toll-free Federal Information Relay Service at 1-800-877-8339.

SUPPLEMENTARY INFORMATION: The Section 184 Indian Housing Loan Guarantee program is authorized by section 184 of the Housing and Community Development Act of 1992 (12 U.S.C. 1715z-13a). The purpose of the program is to provide Indian families, Indian housing authorities and tribes with access to sources of private financing. In a separate notice, the authority to administer the Section 184 Indian Housing Loan Guarantee program was delegated by the Secretary to the Assistant Secretary for Public and Indian Housing. The Assistant Secretary for Public and Indian Housing redelegates the authority to administer the Section 184 Indian Housing Loan Guarantee Program to the Deputy Assistant Secretary for Native American Programs and the Director of the Office of Loan Guarantee, in the Office of Native American Programs, Office of Public and Indian Housing.

Section A. Authority Redelegated

The Assistant Secretary for Public and Indian Housing redelegates the authority to administer the Section 184 Indian Housing Loan Guarantee program under section 184 of the Housing and Community Development Act of 1992 (12 U.S.C. 1715z-13a) to the Deputy Assistant Secretary for Native American Programs and the Director of the Office of Loan Guarantee, in the Office of Native American Programs.

Section B. Authority Excepted

The authority redelegated under Section A does not include: (1) the authority to issue and waive regulations; and (2) the power to sue and be sued.

Section C. Authority Revoked

The Assistant Secretary for Public and Indian Housing revokes all prior delegations pertaining to administration of the Section 184 Indian Housing Loan Guarantee program, including but not limited to the delegation of authority published on September 26, 1994 (59 FR 49124).

Authority: Section 7(d), Department of Housing and Urban Development Act, 42 U.S.C. 3535(d).

Dated: July 18, 2003.
Michael Liu,
Assistant Secretary for Public and Indian Housing.

[FR Doc. 03-22845 Filed 9-8-03; 8:45 am]

BILLING CODE 4210-33-P